DEPARTMENT OF AGRICULTURE

Animal and Plant Health Inspection Service

9 CFR Parts 1, 2, and 3

[Docket No. APHIS-2022-0022]

RIN 0579-AE69

Wild and Exotic Animal Handling, Training of Personnel Involved With Public Handling of Wild and Exotic Animals, and Environmental Enrichment for Species

AGENCY: Animal and Plant Health Inspection Service, USDA.

ACTION: Advance notice of proposed rulemaking; extension of comment period.

SUMMARY: We are extending the comment period for our advance notice of proposed rulemaking that solicits public comment on our plan to strengthen regulations regarding the handling of wild and exotic animals for exhibition, as well as the training of personnel involved in the handling of wild and exotic animals, and to establish standards addressing environmental enrichment for all regulated animals. This action will allow interested persons additional time to prepare and submit comments.

DATES: The comment period for the advance notice of proposed rulemaking published on January 9, 2023 (88 FR 1151-1154) is extended. We will consider all comments that we receive on or before April 10, 2023.

ADDRESSES: You may submit comments by either of the following methods: FederaleRulemakingPortal: Go to www.regulations.gov. Enter APHIS-2022-0022 in the Search field. Select the Documents tab, then select the Comment button in the list of documents.

• Postal Mail/Commercial Delivery: Send your comment to Docket No. APHIS-2022-0022, Regulatory Analysis and Development, PPD, APHIS, Station 3A-03.10, 4700 River Road, Unit 118, Riverdale, MD 20737-1238.

Supporting documents and any comments we receive on this docket may be viewed at Regulations.gov or in our reading room, which is located in room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Dr. Lance H. Bassage, VMD, Director, National Policy Staff, Animal Care, APHIS, 4700 River Road Unit 84, Riverdale, MD 20737; lance.h.bassage@usda.gov; (970) 494-7478.

SUPPLEMENTARY INFORMATION:

On January 9, 2023, we published in the Federal Register (88 FR 1151-1154, Docket No. APHIS-2022-0022) an advance notice of proposed rulemaking ¹ to solicit public comment on our plan to strengthen regulations regarding the handling of wild and exotic animals for exhibition, as well as the training of personnel involved in the handling of wild and exotic animals, and to establish standards addressing environmental enrichment for all regulated animals.

¹ To view the advance notice of proposed rulemaking and public comments, go to www.regulations.gov. Enter APHIS-2022-0022 in the Search field.

Comments on the advance notice of proposed rulemaking were required to be received on or before March 10, 2023. We are extending the comment period on Docket No. APHIS-2022-0022 until April 10, 2023. This action will allow interested persons additional time to prepare and submit comments.

Authority: 7 U.S.C. 2131-2159; 7 CFR 2.22, 2.80, and 371.7.

Done in Washington, DC, this 2nd day of March 2023.
Michael Watson,
Acting Administrator, Animal and Plant Health Inspection Service.

[FR Doc. 2023-04668 Filed 3-6-23; 8:45 am]

BILLING CODE 3410-34-P